DEPARTMENT OF DEFENSE

Department of the Army

Board on Coastal Engineering Research; Notice of Federal Advisory Committee Meeting

AGENCY: Department of the Army, DoD.

ACTION: ACTION: Notice of Federal Advisory Committee Meeting.

SUMMARY: The Department of Defense is publishing this notice to announce that the following Federal Advisory Committee meeting of the Board on Coastal Engineering Research will take place.

DATES: The Board on Coastal Engineering Research will meet from 8:00 a.m. to 12:00 p.m. on August 7, 2018 and reconvene from 8:00 a.m. to 5:00 p.m. on August 8, 2018. The Executive Session of the Board will convene from 8:00 a.m. to 12:00 p.m. on August 9, 2018.

ADDRESSES: All sessions will be held at the Marriott Providence Downtown Hotel Marquis Ballroom, 1 Orms St. Providence, RI 02904. All sessions, including the Executive Session are open to the public. For more information about the Board, please visit https://chl.erdc.dren.mil/usace-cerb/.

FOR FURTHER INFORMATION CONTACT: COL Bryan S. Green, US Army, (601) 634-2513 (Voice), (601) 634-2818 (Facsimile), Bryan.S.Green@usace.army.mil (Email). Mailing address is U.S. Army Engineer, Research and Development Center, Waterways Experiment Station, 3909 Halls Ferry Road, Vicksburg, MS 39180-6199. Website: https://chl.erdc.dren.mil/usace-cerb/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. The Board on Coastal Engineering Research provides broad policy guidance and reviews plans for the conduct of research and the development of research projects in consonance with the needs of the coastal engineering field and the objectives of the U.S. Army Chief of Engineers.

Purpose of the Meeting: The theme of the meeting is “Coupling Coastal Engineering Solutions with Social & Ecological Predications.” The purpose of the meeting is to identify Corps coastal research priorities related to the physical, biological, and chemical processes impacting human and ecosystem health as identified in the Future of Nearshore Processes Research paper.

Agenda: On Tuesday morning, August 7, 2018, panel presentations will address Challenges and Successes Managing Northeast Regional Coastal Systems. Presentations will include: U.S. Army Corps of Engineers Social & Ecological Predictions; Important Characteristics of the Northeast Region; Northeast Regional Ocean Plan: Ocean & Coastal Ecosystem Health; and Coastal Resources Management Council's New Scenario based Permitting for Coastal Structures. The day will end with a presentation on; The Natures Conservancy (TNC) Applications of Living Shorelines and Natural and Nature-Based Features in the Northeast for Coastal Resilience.

On Wednesday morning, August 8, 2018, the Board will reconvene to discuss Coastal Research Supporting Social & Ecological Needs. Presentations will include: Research on Long-Term Natural Geomorphologic Evolution of Barrier Islands & Estuaries in Absence of Humans; Ecological Metrics; Predicting the Transport, Transformation and Fate of Sediment and Particle-Bound Nutrients and Contaminates; Research on Coastal Water Quality Addressing the Sources, Transformation, Transport, and Ecology of Biocolloid; Reducing Risk and Improving Resiliency to the Impacts of Climate Variability; Northeast Sediment Sources and Needs; and Conveyance of Risk from Storms and Social Implications of Impacts. The Wednesday afternoon session continues with the State of Knowledge and Research Direction's panel. Presentations include: Triggers in Rising Seas and Community Flooding; Research Roadmap on Natural and Nature-Based Features; Ecological Modeling and Prediction Uncertainty; Climate Change and Adaptation Planning for Ports; and Urban Flood Prediction: Current Capabilities and Challenges. The Board will meet in Executive Session to discuss ongoing initiatives and future actions on Thursday morning, August 9, 2018.

Meeting Accessibility: Pursuant to 5 U.S.C. 552b, as amended, and 41 CFR 102-3.140 through 102-3.165, and subject to the availability of space, the meeting is open to the public. Because seating capacity is limited, advance registration is required. For registration requirements please see below.

Oral participation by the public is scheduled for 4:00 p.m. on Wednesday, August 8, 2018. The Marriott Providence Downtown Hotel is fully handicap accessible. For additional information about public access procedures, please contact COL Bryan S. Green, the Board's DFO, at the email address or telephone number listed in the FOR FURTHER INFORMATION CONTACT section.

Registration: It is encouraged for individuals who wish to attend the meeting of the Board to register with the DFO by email, the preferred method of contact, no later than July 23, 2018, using the electronic mail contact information found in the FOR FURTHER INFORMATION CONTACT section. The communication should include the registrant's full name, title, affiliation or employer, email address, and daytime phone number. If applicable, include written comments or statements with the registration email.

Written Statements: Pursuant to 41 CFR 102-3.015(j) and 102-3.140 and section 10(a)(3) of the FACA, the public or interested organizations may submit written comments or statements to the Board, in response to the stated agenda of the open meeting or in regard to the Board's mission in general. Written comments or statements should be submitted to COL Bryan S. Green, DFO, via electronic mail, the preferred mode of submission, at the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the FOR FURTHER INFORMATION CONTACT section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

Brenda Bowen,
Federal Register Liaison Officer, Department of the Army.

[FR Doc. 2018-13668 Filed 6-25-18; 8:45 am]

BILLING CODE 3720-58-P